DEPARTMENT OF DEFENSE

Department of the Army; Corps of Engineers

Intent To Prepare a Draft Environmental Impact Statement for Coastal Storm Damage Reduction, Barrow, AK

Correction

In notice document 03-9467 beginning on page 18970 in the issue of Thursday, April 17, 2003, make the following correction:

On page 18971, in the first column, under the heading for further information contact, in the seventh line, “Lizette.P.Boyer@poa02.usacearmy.mil” should read, “ Lizette.P.Boyer@poa02.usace.army.mil”.

[FR Doc. C3-9467 Filed 4-29-03 8:45 am]

BILLING CODE 1515-01-D